DEPARTMENT OF TRANSPORTATION

Federal Aviation Administration

14 CFR Part 71

[Docket No. FAA-2013-0504; Airspace Docket No. 13-AEA-3]

RIN 2120-AA66

Proposed Establishment, Modification and Cancellation of Air Traffic Service (ATS) Routes; Northeast United States

AGENCY: Federal Aviation Administration (FAA), DOT.

ACTION: Notice of proposed rulemaking (NPRM).

SUMMARY: This action proposes to modify two jet routes, six VOR Federal airways, and three area navigation routes; to establish six area navigation (RNAV) routes; and to cancel two VOR Federal airways in the northeast United States. The FAA is proposing this action due to the scheduled decommissioning of the Lake Henry, PA, VHF Omnidirectional Range/Tactical Air Navigation (VORTAC) facility which provides navigation guidance for portions of the affected routes. This action would enhance the safety and efficient management of aircraft within the National Airspace System.

DATES: Comments must be received on or before August 12, 2013.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0504 and Airspace Docket No. 13-AEA-3 at the beginning of your comments. You may also submit comments through the Internet at http://www.regulations.gov.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0504 and Airspace Docket No. 13-AEA-3) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-0504 and Airspace Docket No. 13-AEA-3.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Persons interested in being placed on a mailing list for future NPRMs should contact the FAA's Office of Rulemaking, (202) 267-9677, for a copy of Advisory Circular No. 11-2A, Notice of Proposed Rulemaking Distribution System, which describes the application procedure.

Background

The Lake Henry, PA (LHY) VORTAC facility is currently out of service. A determination has been made to permanently decommission the facility due to projected signal degradation from a planned power line nearby. Additionally, the LHY VORTAC is not on the list of VORs planned for retention in the VOR Minimum Operational Network (MON). As a result, the ATS routes that utilize the LHY VORTAC must be amended. The affected routes are: Jet route J-36 and VOR Federal airways V-58, V-93, V-106, V-126, V-149, V-153, and V-408. With the decommissioning of the LHY VORTAC, ground-based navigation aid (NAVAID) coverage is insufficient to enable the continuity of all the airways. Therefore, the proposed modifications to VOR Federal airways V-58, V-93, V-106, V-126, V-149, and V-408 would result in a gap in the route structures. Route segments supported by other NAVAIDs would be retained. Each of these airways would have an RNAV T-route overlying its original track. A portion of J-36 would also be deleted and replaced by Q-436. Although not directly affected by the LHY VORTAC decommissioning, J-68 would be amended to support the transition to RNAV and reduce chart clutter as noted below.

The FAA also plans to establish a new Waypoint (WP)/Intersection (INT), named LAAYK, within 0.01 seconds of latitude of the LHY VORTAC's position. The LAAYK WP (defined by lat. 41°28′33″ N., long. 075°28′57″ W.; or the intersection of the Wilkes-Barre, PA 037°T/047°M and Sparta, NJ 300°T/311°M radials) would be utilized in a number of the routes described in this proposal.

The Proposal

The FAA is proposing an amendment to Title 14, Code of Federal Regulations (14 CFR) part 71 to amend jet routes J-36 and J-68; VOR Federal airways V-58, V-93, V-106, V-126, V-149, V-408; and RNAV routes T-212, T-291 and T-295. The FAA also proposes to establish new RNAV routes Q-436, Q-438, Q-440, T-216, T-218 and T-221. In addition, VOR Federal airways V-153 and V-449 would be cancelled. The scheduled decommissioning of the LHY VORTAC facility has made this action necessary.

The proposed route changes are outlined below.

J-36: J-36 currently extends between Mullan Pass, ID (MLP) and Sparta, NJ (SAX). The FAA proposes to eliminate the part of the route between Flint, MI (FNT) and SAX. A new RNAV route, Q-436, is proposed, as described below, that would replace the cancelled segment. Most aircraft utilizing J-36 are RNAV equipped, so replacing the above J-36 segment with an RNAV route would further the transition to an RNAV route structure and support the NextGen initiative.

J-68: J-68 currently extends between Gopher, MN (GEP) and Dunkirk, NY (DKK); and then between Hancock, NY (HNK) and Nantucket, MA (ACK). Although J-68 is not directly affected by the planned LHY VORTAC decommissioning, the FAA proposes to cancel that part of J-68 that extends between FNT and DKK. J-68 overlies J-36 between FNT and DKK. The proposed Q-436, Q-438 and Q-440 (see below), as well as other jet routes, provide alternative routings through the area. Therefore cancelling the segments of J-68 between FNT and DKK would support the transition to RNAV and reduce chart clutter. The portion of J-68 between Hancock, NY and Nantucket, MA would be retained as currently published.

Q-436: This proposed new route would extend between the EMMMA, MI, fix and the COATE, NJ, fix (approximately 8 NM NW of Sparta). Q-436 would replace the cancelled segments of J-36 and that part of J-68 that extends between FNT and DKK. The proposed routing of Q-436 from the COATE, NJ, INT/WP to a point southeast of DKK is an exact overlay of the segments of J-36 proposed for cancellation (see above). From this point Q-436 would continue westbound to provide a more direct routing for aircraft transiting from the New York area landing in Chicago, IL.

Q-438 and Q-440: During the development of Q-436, two additional Q-routes (Q-438 and Q-440) were designed to segregate Chicago O'Hare arrivals from other westbound traffic. Q-438 would extend between the RUBYY, MI, WP and the RAAKK, NY, WP. Q-440 would extend between the SLLAP, MI, WP and the RAAKK, NY, WP. From a point southeast of DKK, Q-438 and Q-440 would diverge from Q-436 to provide segregation between Chicago arrivals and aircraft overflying the Chicago area. Although not directly related to the LHY VORTAC decommissioning, these additional Q-routes would reduce ATC sector complexity, allow overflight aircraft to be cleared to their cruising altitude more expeditiously and provide a more direct routing to destinations west of Chicago; therefore, they are included in this proposed rule.

V-58: V-58 currently extends between the intersection of the Franklin, PA, (FKL) 175° and Clarion, PA, (CAV) 222° radials and ACK. The V-58 segments between Williamsport, PA (FQM) and the HELON, NY, intersection (formed by the intersection of the Sparta, NJ, 018° and Kingston, NY, 270° radials) would be removed. Following this gap, the airway would resume its current track between HELON and ACK.

V-93: V-93 currently extends between Patuxent River, MD (PXT), and the United States/Canadian border, (near Princeton, ME [PNN]). As proposed, V-93 would extend between PXT and the new LAAYK INT. The segments between LAAYK, PA, and HELON, NY, would be deleted. The route would then resume its current track between HELON, NY, and the United States/Canadian Border.

V-106: V-106 currently extends between Johnstown, PA (JST), and Kennebunk, ME (ENE). V-106 would be realigned to the LAAYK INT in lieu of LHY and that portion of the airway between LAAYK and Barnes, MA (BAF) would be deleted. Following that gap, the airway would resume its currently published track between BAF and ENE. This change is proposed because other routings are available via other conventional airways (V-34 from WEETS, NY, to Pawling, NY (PWL) then V-405 to BAF). The change would also reduce chart clutter. As described below, T-212 would replace the deleted segments of V-106.

V-126: V-126 currently extends between the intersection of the Peotone, IL (EON), 053° and Knox, IN (OXI), 297° radials and Sparta, NJ. That portion of V-126 between Stonyfork, PA (SFK) and Sparta would be deleted. The proposed RNAV route T-218 would overlay the airway.

V-149: V-149 currently extends between the intersection of the Allentown, PA (FJC), 147° and Solberg, NJ (SBJ), 227° radials, through the FJC VORTAC and LHY VORTAC, then on to Binghamton, NY (CFB). V-149 would be modified by replacing the LHY VORTAC with the new LAAYK INT (formed by radials from the CFB and FJC VORTACs). In addition, V-149 currently utilizes the FJC 147°(M) radial to define the segment between the MAZIE fix and FJC. This radial is currently charted as “unusable.” Therefore, the FAA also proposes to remove that segment of V-149 between the MAZIE fix and FJC. The proposed T-221 would overlie this removed segment as described below.

V-153: V-153 currently extends between Lake Henry, PA, and Syracuse, NY (SYR). The FAA is proposing to remove V-153 in its entirety based on other available route alternatives and minimal usage by air traffic.

V-408: V-408 currently extends between the intersection of the Martinsburg, WV (MRB), 058° and Modena, PA (MXE), 258° radials and the intersection of the Lake Henry, PA, 056° and Barnes, MA, 265° radials (i.e., the SAGES fix). As proposed, V-408 would terminate at Allentown, PA, and the segments between Allentown and SAGES would be deleted. The deleted portion would be replaced by a proposed extension of T-295, described below.

V-449: V-449 currently extends between Milton, PA (MIP), and Albany, NY (ALB). The FAA proposes to remove V-449 in its entirety. With the LHY decommissioning, the remainder of the airway will not pass flight inspection. A proposed extension of T-291 would replace this airway, as described below.

T-212: T-212 currently extends between the WEARD, NY, fix and the Putnam, CT, VOR/DME (PUT). The FAA proposes to extend T-212 to the west by adding segments between the existing RASHE, PA, fix (formed by the intersection of radials from the Selinsgrove, PA, and the Philipsburg, PA, VORTACs) and WEARD. As proposed, T-212 would replace the cancelled segment of V-106 between the LAAYK and WEETS fixes.

T-216: T-216 is a proposed new route that would extend between the Philipsburg, PA, VORTAC (PSB) and the Nantucket, MA, VOR/DME (ACK). T-216 would overlie V-58 between PSB and ACK, and would also replace the cancelled portion of V-93 between the LAAYK INT and the HELON fix.

T-218: T-218 is a proposed new route that would extend between the Stonyfork, PA (SFK), VOR/DME and the Sparta, NJ, VORTAC (SAX). T-218 would replace V-126 between SFK and SAX.

T-221: T-221 is a proposed new route that would extend between the MAZIE, PA, fix and the Albany, NY, VORTAC (ALB). T-221 would overlie V-149 between the MAZIE fix and Binghamton, NY (CFB).

T-291: is a newly established route to become effective August 22, 2013 (78 FR 29615, May 21, 2013), extending between the LOUIE, MD, fix and the Harrisburg, PA, VORTAC (HAR). After T-291 becomes effective, this proposal would further extend the route northward between HAR and ALB. The extended route would overlie V-31 to Selinsgrove, PA (SEG), then proceed direct to MIP, and from MIP it would replace V-449 by way of the LAAYK WP, terminating at ALB.

T-295: T-295 is a newly established route to become effective August 22, 2013 (78 FR 29615, May 21, 2013), extending between the LOUIE, MD, fix and the Lancaster, PA, VORTAC (LRP). After T-295 becomes effective, this proposal would further extend the route northward to the Princeton, ME, VOR/DME (PNN). T-295 would overlie V-93 from LRP through Wilkes-Barre, PA (LVZ), to the LAAYK WP and then would replace V-408 from LAAYK to the SAGES, NY, INT/WP where it would turn and overlie V-292 until the SASHA, MA, INT/WP. T-295 would then continue northbound overlying V-93 to PNN.

Where new navigation aid radials are cited in a proposed route description, below, both True and Magnetic degrees are shown. Otherwise, only True degrees are stated.

Jet routes are published in paragraph 2004; high altitude RNAV routes (Q) are published in paragraph 2006; VOR Federal airways are published in paragraph 6010(a); and low altitude RNAV routes (T) are published in paragraph 6011, respectively, of FAA Order 7400.9W dated August 8, 2012, and effective September 15, 2012, which is incorporated by reference in 14 CFR 71.1. The jet routes, Q routes, VOR Federal airways and T routes listed in this document would be subsequently published in the Order.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this proposed rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic and to advance the use of Performance Based Navigation technology.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, dated August 8, 2012 and effective September 15, 2012, is amended as follows:

Paragraph 2004 Jet Routes

* * * * *

J-36 [Amended]

From Mullan Pass, ID, via Great Falls, MT; Dickinson, ND, via Fargo, ND; Gopher, MN; Nodine, MN; INT Nodine 116° and Badger, WI, 271° radials; Badger; INT Badger 086° and Flint, MI, 278° radials; to Flint.

J-68 (Amended)

From Gopher, MI, INT Gopher 109° and Dells, WI, 310° radials; Dells; Badger, WI; INT Badger 086° and Flint, MI, 278° radials; to Flint. From Hancock, NY; INT Hancock 082° and Putnam, CT, 293° radials; Putnam; Providence, RI; to Nantucket, MA.

* * * * *

Paragraph 2006 United States Area Navigation Routes

Q-436 EMMMA, MI to COATE, NJ [New]
EMMMA, MI | FIX | (Lat. 42°53′04″ N., long. 084°34′50″ W.)
YARRK, (Canada) | WP | (Lat. 42°31′22″ N., long. 081°16′06″ W.)
CHAAP, (Canada) | WP | (Lat. 42°30′19″ N., long. 080°40′57″ W.)
RAAKK, NY | WP | (Lat. 42°23′59″ N., long. 078°54′39″ W.)
HERBA, NY | WP | (Lat. 42°14′35″ N., long. 078°16′28″ W.)
LAAYK, PA | WP | (Lat. 41°28′33″ N., long. 075°28′57″ W.)
COATE, NJ | FIX | (Lat. 41°08′10″ N., long. 074°41′43″ W.)
Excluding the airspace in Canada.
Q438 RUBYY, MI to RAAKK, NY [New]
RUBYY, MI | WP | (Lat. 43°01′04″ N., long. 084°35′16″ W.)
Flint, MI (FNT) | VORTAC | (Lat. 42°58′00″ N., long. 083°44′49″ W.)
TWIGS, MI | WP | (Lat. 42°48′34″ N., long. 082°33′10″ W.)
JAAJA, (Canada) | WP | (Lat. 42°40′00″ N., long. 081°16′00″ W.)
FARGN, (Canada) | WP | (Lat. 42°36′42″ N., long. 079°47′18″ W.)
RAAKK, NY | WP | (Lat. 42°23′59″ N., long. 078°54′39″ W.)
Excluding the airspace in Canada.
Q440 SLLAP, MI to RAAKK, NY [New]
SLLAP, MI | WP | (Lat. 43°27′00″ N., long. 084°56′20″ W.)
Flint, MI (FNT) | VORTAC | (Lat. 42°58′00″ N., long. 083°44′49″ W.)
TWIGS, MI | WP | (Lat. 42°48′34″ N., long. 082°33′10″ W.)
JAAJA, (Canada) | WP | (Lat. 42°40′00″ N., long. 081°16′00″ W.)
FARGN, (Canada) | WP | (Lat. 42°36′42″ N., long. 079°47′18″ W.)
RAAKK, NY | WP | (Lat. 42°23′59″ N., long. 078°54′39″ W.)
Excluding the airspace in Canada.

* * * * *

Paragraph 6010 Domestic VOR Federal Airways

V-58 [Amended]

From INT Franklin, PA, 175° and Clarion, PA, 222° radials, via INT Clarion 222° and Philipsburg, PA, 272° radials; Philipsburg; to Williamsport, PA. From INT Sparta, NJ 018°T/029°M and Kingston, NY, 270°T/282°M radials; Kingston; INT Kingston 095° and Hartford, CT, 269° radials; Hartford; Groton, CT; Sandy Point, RI; to Nantucket, MA. The airspace within R-4105 is excluded during times of use.

V-93 [Amended]

From Patuxent River, MD, INT Patuxent 013° and Baltimore, MD, 122° radials; Baltimore; INT Baltimore 004° and Lancaster, PA, 214° radials; Lancaster; Wilkes-Barre, PA; to INT Wilkes-Barre 037°T/047°M and Sparta, NJ 300°T/311°M radials. From INT Sparta 018°T/029°) and Kingston, NY, 270°T/282°M radials; Kingston; Pawling, NY; Chester, MA, 12 miles 7 miles wide (4 miles E and 3 miles W of centerline); Keene, NH; Concord, NH; Kennebunk, ME; INT Kennebunk 045° and Bangor, ME, 220° radials; Bangor; Princeton, ME; to INT Princeton 057° radial and the United States/Canadian border.

V-106 [Amended]

From Johnstown, PA; INT Johnstown 068° and Selinsgrove, PA, 259° radials; Selinsgrove; INT Selinsgrove 067° and Wilkes-Barre, PA, 237° radials; Wilkes-Barre; to INT Wilkes-Barre 037°T/047°M and Sparta, NJ 300°T/311°M radials. From Barnes, MA; Gardner, MA; Manchester, NH; to Kennebunk, ME.

V-126 [Amended]

From INT Peotone, IL, 053° and Knox, IN, 297° radials; INT Knox 297° and Goshen, IN, 270°radials; Goshen; Waterville, OH; Sandusky, OH; Dryer, OH; Jefferson, OH; Erie, PA; Bradford, PA; to Stonyfork, PA.

V-149 [Amended]

From Allentown, PA; INT Allentown 358°(T)/008°(M) and Binghamton, NY 144°(T)/154°(M) radials; to Binghamton.

V-153 [Removed]

V-408 [Amended]

From INT Martinsburg, WV, 058° and Modena, PA, 258° radials; Modena; Pottstown, PA; East Texas, PA; to Allentown, PA.

V-449 [Removed]

* * * * *

Paragraph 6011 United States Area Navigation Routes

T-212 RASHE, PA to Putnam, CT (PUT) [Amended]
RASHE, PA | FIX | (Lat. 40°40′36″ N., long. 077°38′39″ W.)
Selinsgrove, PA (SEG) | VORTAC | (Lat. 40°47′27″ N., long. 076°53′03″ W.)
DIANO, PA | FIX | (Lat. 41°00′02″ N., long. 076°13′34″ W.)
Wilkes Barre, PA (LVZ) | VORTAC | (Lat. 41°16′22″ N., long. 075°41′22″ W.)
LAAYK, PA | WP | (Lat. 41°28′33″ N., long. 075°28′57″ W.)
WEETS, NY | FIX | (Lat. 41°51′27″ N., long. 074°11′52″ W.)
NELIE, CT | FIX | (Lat. 41°56′28″ N., long. 072°41′19″ W.)
Putnam, CT (PUT) | VOR/DME | (Lat. 41°57′20″ N., long. 071°50′39″ W.)
T-216 Philipsburg, PA (PSB) to Nantucket, MA (ACK) [New]
Philipsburg, PA (PSB) | VORTAC | (Lat. 40°54′59″ N., long. 077°59′34″ W.)
Williamsport, PA (FQM) | VOR/DME | (Lat. 41°20′19″ N., long. 076°46′30″ W.)
ELEXY, PA | FIX | (Lat. 41°25′54″ N., long. 076°07′35″ W.)
LAAYK, PA | WP | (Lat. 41°28′33″ N., long. 075°28′57″ W.)
HELON, NY | FIX | (Lat. 41°40′03″ N., long. 074°16′50″ W.)
Kingston, NY (IGN) | VOR/DME | (Lat. 41°39′56″ N., long. 073°49′20″ W.)
MOONI, CT | FIX | (Lat. 41°37′53″ N., long. 073°19′20″ W.)
Hartford, CT (HFD) | VOR/DME | (Lat. 41°38′28″ N., long. 072°32′51″ W.)
Groton, CT (GON) | VOR/DME | (Lat. 41°19′49″ N., long. 072°03′07″ W.)
Sandy Point, RI (SEY) | VOR/DME | (Lat. 41°10′03″ N., long. 071°34′34″ W.)
Nantucket, MA (ACK) | VOR/DME | (Lat. 41°16′55″ N., long. 070°01′36″ W.)
The airspace within R-4105 is excluded during times of use.
T-218 Stonyfork, PA (SFK) to Sparta, NJ (SAX) [New]
Stonyfork PA (SFK) | VOR/DME | (Lat. 41°41′43″ N., long. 077°25′12″ W.)
LAAYK, PA | WP | (Lat. 41°28′33″ N., long. 075°28′57″ W.)
Sparta, NJ (SAX) | VORTAC | (Lat. 41°04′03″ N., long. 074°32′18″ W.)
T-221 MAZIE, PA to Binghamton, NY (CFB) [New]
MAZIE PA | FIX | (Lat. 40°19′20″ N., long. 075°06′35″ W.)
Allentown, PA (FJC) | VORTAC | (Lat. 40°43′36″ N., long. 075°27′17″ W.)
LAAYK, PA | WP | (Lat. 41°28′33″ N., long. 075°28′57″ W.)
Binghamton, NY (CFB) | VORTAC | (Lat. 42°09′27″ N., long. 076°08′11″ W.)
T-291 LOUIE, MD to Albany, NY (ALB) [Amended]
LOUIE, MD | FIX | (Lat. 38°36′44″ N., long. 076°18′04″ W.)
BAABS, MD | WP | (Lat. 39°19′51″ N., long. 076°24′41″ W.)
Harrisburg, PA (HAR) | VORTAC | (Lat. 40°18′08″ N., long. 077°04′10″ W.)
Selinsgrove, PA (SEG) | VORTAC | (Lat. 40°47′27″ N., long. 076°53′03″ W.)
Milton, PA (MIP) | VORTAC | (Lat. 41°01′24″ N., long. 076°39′55.W.)
MEGSS, PA | FIX | (Lat. 41°11′13″ N., long. 076°12′41″ W.)
LAAYK, PA | WP | (Lat. 41°28′33″ N., long. 075°28′57″ W.)
Delancey, NY (DNY) | VOR/DME | (Lat. 42°10′42″ N., long. 074°57′25″ W.)
Albany, NY (ALB) | VORTAC | (Lat. 42°44′50″ N., long. 073°48′11″ W.)
T-295 LOUIE, MD to Princeton, ME (PNN) [Amended]
LOUIE, MD | FIX | (Lat. 38°36′44″ N., long. 076°18′04″ W.)
BAABS, MD | WP | (Lat. 39°19′51″ N., long. 076°24′41″ W.)
Lancaster, PA (LRP) | VORTAC | (Lat. 40°07′12″ N., long. 076°17′29″ W.)
Wilkes-Barre, PA (LVZ) | VORTAC | (Lat. 41°16′22″ N., long. 075°41′22″ W.)
LAAYK, PA | WP | (Lat. 41°28′33″ N., long. 075°28′57″ W.)
SAGES, NY | FIX | (Lat. 42°02′46″ N., long. 074°19′10″ W.)
SASHA, MA | FIX | (Lat. 42°07′59″ N., long. 073°08′55″ W.)
Keene, NH (EEN) | VORTAC | (Lat. 42°47′39″ N., long. 072°17′30″ W.)
Concord, NH (CON) | VORTAC | (Lat. 43°13′11″ N., long. 071°34′32″ W.)
Kennebunk, ME (ENE) | VORTAC | (Lat. 43°25′32″ N., long. 070°36′49″ W.)
BRNNS, ME | FIX | (Lat. 43°54′09″ N., long. 069°56′43″ W.)
Bangor, ME (BGR) | VORTAC | (Lat. 44°50′30″ N., long. 068°52′26″ W.)
Princeton, ME (PNN) | VOR/DME | (Lat. 45°19′45″ N., long. 067°42′15″ W.)

Issued in Washington, DC, on June 20, 2013.
Ellen Crum,
Acting Manager, Airspace Policy & ATC Procedures Group.

[FR Doc. 2013-15283 Filed 6-25-13; 8:45 am]

BILLING CODE 4910-13-P